DEPARTMENT OF THE TREASURY

Submission for OMB Review; Comment Request

September 18, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before October 28, 2002, to be assured of consideration.

Customs Service (CUS)

OMB Number: 1515-0061.

Form Number: Customs Form 1304.

Type of Review: Extension.

Title: Crew Effects Declaration.

Description: Customs Form 1304 is completed by the master of the arriving carrier to record and list the crew's effects that are accompanying them on the trip, which are defined as merchandise under U.S. statutes. It is also used by the master of the vessel to attest to the truthfulness of the merchandise being carried aboard the vessel.

Respondents: Individuals or households, Business or other for-profit.

Estimated Number of Respondents: 9,000.

Estimated Burden Hours Per Respondent: 5 minutes.

Frequency of Response: On occasion.

Estimated Total Reporting Burden: 17,168 hours.

OMB Number: 1515-0065.

Form Number: Customs Form 7501 and 7501A.

Type of Review: Extension.

Title: Entry Summary and Continuation Sheet.

Description: Customs Form 7501 is used by Customs as a record of the import transaction, to collect proper duty, taxes, certifications and enforcement endorsements, and to provide copies to Census for statistical purposes.

Respondents: Business or other for-profit, Individuals or households, Not-for-profit institutions.

Estimated Number of Respondents: 38,500.

Estimated Burden Hours Per Respondent : 20 minutes.

Frequency of Response: On occasion.

Estimated Total Reporting Burden: 6,627,678 hours.

OMB Number: 1515-0069.

Form Number: Customs Forms 3461 and 3461 Alternate.

Type of Review: Extension.

Title: Immediate Delivery Application.

Description: Customs Form 3461 and 3461 Alternate are used by importers to provide Customs with the necessary information in order to examine and release imported cargo.

Respondents: Business or other for-profit.

Estimated Number of Respondents: 13,324.

Estimated Burden Hours Per Respondent:

Customs Form 3461—15 minutes.

3461 Alternate—3 minutes.

Frequency of Response: On occasion.

Estimated Total Reporting Burden: 2,775,043 hours.

OMB Number: 1515-0124.

Form Number: None.

Type of Review: Extension.

Title: Disclosure of Information on Vessel Manifest.

Description: This information is used to grant a domestic importer's consignees, and exporter's request for confidentiality of its identity from public disclosure.

Respondents: Individuals or households, Business or other for-profit.

Estimated Number of Respondents: 578.

Estimated Burden Hours Per Respondent: 30 minutes.

Frequency of Response: On occasion.

Estimated Total Reporting Burden: 289 hours.

OMB Number: 1515-0151.

Form Number: None.

Type of Review: Extension.

Title: Foreign Trade Zones Annual Reconciliation and Record Keeping Requirement.

Description: Each Foreign Trade Zone Operator will be responsible for maintaining its inventory control in compliance with statute and regulations. The operator will furnish Customs an annual certification of their compliance.

Respondents: Business or other for-profit, Not-for-profit institutions.

Estimated Number of Recordkeepers: 260.

Estimated Burden Hours Per Recordkeeper: 45 minutes.

Frequency of Response: On occasion.

Estimated Total Recordkeeping Burden: 195 hours.

OMB Number: 1515-0178.

Form Number: None.

Type of Review: Extension.

Title: Automotive Products Act of 1965.

Description: Under the Automotive Products Trade Act (APTA), Canadian articles may enter the United States so long as they are intended for use as original motor vehicle equipment in the United States. If diverted to other purposes, they are subject to duties. This information collection is issued to track these diverted articles and to collect the proper duties on them.

Respondents: Business or other for-profit, Individuals or households.

Estimated Number of Respondents: 75.

Estimated Burden Hours Per Respondent: 15 minutes.

Frequency of Response: On occasion.

Estimated Total Reporting Burden: 425 hours.

OMB Number: 1515-0212.

Form Number: None.

Type of Review: Extension.

Title: Prior Disclosure.

Description: This collection of information is required to implement a provision of the Customs Modernization portion of the North American Free Trade Implementation Act concerning prior disclosure by a person of a violation of law committed by that person involving the entry or introduction or attempted entry or introduction of merchandise into the United States by fraud, gross negligence or negligence, pursuant to 19 U.S.C. 1592(c)(4), as amended.

Respondents: Business or other for-profit, Individuals or households, Not-for-profit institutions.

Estimated Number of Respondents: 3,500.

Estimated Burden Hours Per Respondent: 1 hour.

Frequency of Response: On occasion.

Estimated Total Reporting Burden: 3,500 hours.

Clearance Officer: Tracey Denning, U.S. Customs Service, Information Services Branch, Ronald Reagan Building, 1300 Pennsylvania Avenue, NW., Room 3.2.C, Washington, DC 20229. (202) 927-1429.

OMB Reviewer: Joseph F. Lackey, Jr., Office of Management and Budget, Room 10235, New Executive Office Building, Washington, DC 20503. (202) 395-7316.

Mary A. Able,
Departmental Reports, Management Officer.

[FR Doc. 02-24559 Filed 9-26-02; 8:45 am]

BILLING CODE 4820-02-P